DEPARTMENT OF ENERGY

Federal Energy Regulatory Commission

Combined Notice of Filings #2

Take notice that the Commission received the following electric corporate filings:

Docket Numbers: EC16-184-000.

Applicants: WGP Acquisition, LLC, Lea Power Partners, LLC, Waterside Power, LLC, Badger Creek Limited, Chalk Cliff Limited, Double C Generation Limited Partnership, High Sierra Limited, Kern Front Limited, McKittrick Limited, Bear Mountain Limited, Live Oak Limited.

Description: Supplement to September 19, 2016 Joint Section 203 Application for WPG Acquisition, LLC, et al.

Filed Date: 10/12/16.

Accession Number: 20161012-5093.

Comments Due: 5 p.m. ET 10/24/16.

Take notice that the Commission received the following exempt wholesale generator filings:

Docket Numbers: EG17-10-000.

Applicants: Applied Energy LLC.

Description: Notice of Self-Certification of Exempt Wholesale Generator of Applied Energy LLC.

Filed Date: 10/13/16.

Accession Number: 20161013-5207.

Comments Due: 5 p.m. ET 11/3/16.

Docket Numbers: EG17-11-000.

Applicants: Applied Energy LLC.

Description: Notice of Self-Certification of Exempt Wholesale Generator Status of Applied Energy LLC.

Filed Date: 10/13/16.

Accession Number: 20161013-5208.

Comments Due: 5 p.m. ET 11/3/16.

Docket Numbers: EG17-12-000.

Applicants: Javelina Wind Energy II, LLC.

Description: Notice of Self-Certification of Exempt Wholesale Generator Status of Javelina Wind Energy II, LLC under EG17-12.

Filed Date: 10/13/16.

Accession Number: 20161013-5209.

Comments Due: 5 p.m. ET 11/3/16.

Take notice that the Commission received the following electric rate filings:

Docket Numbers: ER14-19-006.

Applicants: West Deptford Energy, LLC.

Description: Notification of Change in Status of West Deptford Energy, LLC.

Filed Date: 10/13/16.

Accession Number: 20161013-5214.

Comments Due: 5 p.m. ET 11/3/16.

Docket Numbers: ER15-2631-005.

Applicants: Odell Wind Farm, LLC.

Description: Notice of Non-Material Change in Status of Odell Wind Farm, LLC.

Filed Date: 10/14/16.

Accession Number: 20161014-5150.

Comments Due: 5 p.m. ET 11/4/16.

Docket Numbers: ER16-1672-002; ER16-1354-002; ER16-1913-001

Applicants: Chaves County Solar, LLC, Live Oak Solar, LLC, River Bend Solar, LLC.

Description: Notice of Non-Material Change in Status of Chaves County Solar, LLC, et al.

Filed Date: 10/14/16.

Accession Number: 20161014-5147.

Comments Due: 5 p.m. ET 11/4/16.

Docket Numbers: ER16-2654-001.

Applicants: City Point Energy Center, LLC.

Description: Tariff Amendment: Amendment to 1 to be effective 12/31/9998.

Filed Date: 10/14/16.

Accession Number: 20161014-5110

Comments Due: 5 p.m. ET 11/4/16.

Docket Numbers: ER17-79-001.

Applicants: Portland General Electric Company.

Description: Compliance filing: Errata to Combined Order 827 and 828 Compliance Filing to be effective 10/14/2016.

Filed Date: 10/14/16.

Accession Number: 20161014-5118.

Comments Due: 5 p.m. ET 11/4/16.

Docket Numbers: ER17-88-000.

Applicants: Puget Sound Energy, Inc.

Description: § 205(d) Rate Filing: Flexible Ramping Product Revisions to be effective 11/1/2016.

Filed Date: 10/14/16.

Accession Number: 20161014-5040.

Comments Due: 5 p.m. ET 11/4/16.

Docket Numbers: ER17-89-000.

Applicants: Midcontinent Independent System Operator, Inc., Entergy Services, Inc.

Description: § 205(d) Rate Filing: 2016-10-14_Entergy Texas, Inc. Filing to Amend ETI Attachment O to be effective 12/19/2013.

Filed Date: 10/14/16.

Accession Number: 20161014-5043.

Comments Due: 5 p.m. ET 11/4/16.

Docket Numbers: ER17-90-000.

Applicants: Public Service Company of Colorado.

Description: Compliance filing: OATT Order 827-828 Compliance to be effective 10/14/2016.

Filed Date: 10/14/16.

Accession Number: 20161014-5048.

Comments Due: 5 p.m. ET 11/4/16.

Docket Numbers: ER17-91-000.

Applicants: Public Service Company of Colorado.

Description: § 205(d) Rate Filing: 20161014_IREA Amended PPA to be effective 7/13/2015.

Filed Date: 10/14/16.

Accession Number: 20161014-5064.

Comments Due: 5 p.m. ET 11/4/16.

Docket Numbers: ER17-92-000.

Applicants: Public Service Company of Colorado.

Description: § 205(d) Rate Filing: 20161014_IREA Amended PPA to be effective 4/16/2016.

Filed Date: 10/14/16.

Accession Number: 20161014-5074.

Comments Due: 5 p.m. ET 11/4/16.

Docket Numbers: ER17-93-000.

Applicants: PacifiCorp.

Description: § 205(d) Rate Filing: UAMPS Construction Agmt Lehi (Upgrades to Eagle Mountain) to be effective 12/14/2016.

Filed Date: 10/14/16.

Accession Number: 20161014-5087.

Comments Due: 5 p.m. ET 11/4/16.

Docket Numbers: ER17-94-000.

Applicants: ESS Snook Project, LLC.

Description: Baseline eTariff Filing: Baseline new to be effective 12/13/2016.

Filed Date: 10/14/16.

Accession Number: 20161014-5089.

Comments Due: 5 p.m. ET 11/4/16.

Docket Numbers: ER17-95-000.

Applicants: Alabama Power Company.

Description: Compliance filing: Order Nos. 827 and 828 Compliance Filing to be effective 10/14/2016.

Filed Date: 10/14/16.

Accession Number: 20161014-5092.

Comments Due: 5 p.m. ET 11/4/16.

Docket Numbers: ER17-96-000.

Applicants: ISO New England Inc.

Description: § 205(d) Rate Filing: Part 1 of Two-Part Filing to Update Eff Date of Accepted Demand Response Chgs to be effective 6/1/2017.

Filed Date: 10/14/16.

Accession Number: 20161014-5098.

Comments Due: 5 p.m. ET 11/4/16.

Docket Numbers: ER17-97-000.

Applicants: Florida Power & Light Company.

Description: Compliance filing: FPL's Order Nos. 827 and 828 Single Combined Compliance Filing to be effective 10/14/2016.

Filed Date: 10/14/16.

Accession Number: 20161014-5099.

Comments Due: 5 p.m. ET 11/4/16.

Docket Numbers: ER17-98-000.

Applicants: Sky River LLC.

Description: Compliance filing: Sky River LLC's Order Nos. 827 and 828 Single Combined Compliance Filing to be effective 10/14/2016.

Filed Date: 10/14/16.

Accession Number: 20161014-5100.

Comments Due: 5 p.m. ET 11/4/16.

Docket Numbers: ER17-99-000.

Applicants: Tucson Electric Power Company.

Description: Compliance filing: Compliance Filing per Orders 827 & 828 (LGIA & SGIA) to be effective 12/14/2016.

Filed Date: 10/14/16.

Accession Number: 20161014-5101.

Comments Due: 5 p.m. ET 11/4/16.

Docket Numbers: ER17-100-000.

Applicants: UNS Electric, Inc.

Description: Compliance filing: Compliance Filing per Orders 827 & 828 (LGIA & SGIA) to be effective 12/14/2016.

Filed Date: 10/14/16.

Accession Number: 20161014-5105.

Comments Due: 5 p.m. ET 11/4/16.

Docket Numbers: ER17-101-000.

Applicants: Sagebrush, a California partnership.

Description: Tariff Cancellation: Notice of Cancellation of Sagebrush, a California partnership's OATT to be effective 12/14/2016.

Filed Date: 10/14/16.

Accession Number: 20161014-5113.

Comments Due: 5 p.m. ET 11/4/16.

Docket Numbers: ER17-102-000.

Applicants: California Independent System Operator Corporation.

Description: Compliance filing: 2016-10-14 Compliance Order No. 827 and Order No. 828 to be effective 9/21/2016.

Filed Date: 10/14/16.

Accession Number: 20161014-5131.

Comments Due: 5 p.m. ET 11/4/16.

Docket Numbers: ER17-103-000.

Applicants: San Diego Gas & Electric Company.

Description: § 205(d) Rate Filing: SDGEs Order Nos. 827 and 828 Compliance Filing to be effective 10/17/2016.

Filed Date: 10/14/16.

Accession Number: 20161014-5146.

Comments Due: 5 p.m. ET 11/4/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2016.
Nathaniel J. Davis, Sr.,
Deputy Secretary.

[FR Doc. 2016-25361 Filed 10-19-16; 8:45 am]

BILLING CODE 6717-01-P